DEPARTMENT OF AGRICULTURE

Farm Service Agency

Request for Approval of a New Information Collection; 2005 Section 32 Hurricane Disaster Programs

AGENCY: Farm Service Agency, USDA.

ACTION: Notice and Request for Comments.

SUMMARY: In accordance with the Paperwork Reduction Act of 1995, this notice announces the intent of the Farm Service Agency (FSA) to request a new information collection to be used in support of the 2005 Section 32 Hurricane Disaster Programs. These programs consist of the Hurricane Indemnity Program (HIP), the Feed Indemnity Program (FIP), the Livestock Indemnity Program (LIP), and the Tree Indemnity Program (TIP).

DATES: Comments on this notice must be receive on or before May 1, 2006 to be assured consideration.

FOR FURTHER INFORMATION CONTACT: Steven J. Peterson, USDA, Farm Service Agency, Production, Emergencies and Compliance Division, Disaster Assistance Branch, 1400 Independence Avenue SW., STOP 0517, Washington, DC 20250-0517; Telephone (202) 720-5172; Electronic mail: Steve.Peterson@wdc.usda.gov

SUPPLEMENTARY INFORMATION: Title: 2005 Section 32 Hurricane Disaster Assistance Programs.

OMB Control Number: 0560-NEW.

Type of Request: Request Approval of a New Information Collection.

Abstract: This information collection will be used to make eligibility determinations on respondent's requests for payments to supplement indemnities or payments received under Federal crop insurance or the Noninsured Crop Disaster Assistance Program (NAP), in addition to requests for payments to compensate for losses of livestock, livestock feed, trees, bushes, and vines, all of which resulted from one or more of five named hurricanes that occurred in 2005 in counties designated as primary under a Presidential disaster declaration or Secretarial designation. Travel time has been included in the Estimated Annual Burden on Respondents.

Estimate of Annual Burden: Public reporting burden for this collection of information is estimated to average 90 minutes per response.

Respondents: Individuals or households, businesses or other for profit and farms.

Estimated Number of Respondents: 34,008.

Estimated Number of Responses per Respondent: 1.

Estimated Total Annual Burden on Respondents: 51,012.

Comments are invited on the following: (a) Whether the collection of information is necessary for the proper performance of the functions of the agency, including whether the information will have practical utility; (b) the accuracy of the agency's estimate of burden, including the validity of the methodology and assumptions used; (c) ways to enhance the quality, utility and clarity of the information to be collected; (d) ways to minimize the burden of the collection of information on those who are to respond, including through the use of appropriate automated, electronic, mechanical, or other technological collection techniques or other forms of information technology. These comments should be sent to the Desk Officer of Agriculture, Office of Information and Regulatory Affairs, Office of Management and Budget, Washington, DC 20503, and to Steven J. Peterson, Branch Chief, USDA, Farm Service Agency, Production, Emergencies and Compliance Division, Disaster Assistance Branch, 1400 Independence Avenue SW., STOP 0517, Washington, DC 20250-0517.

Comments will be summarized and included in the request for Office of Management and Budget approval of the information collection. All comments will also become a matter of public record.

Signed in Washington, DC on February 23, 2006.
Teresa C. Lasseter,
Administrator, Farm Service Agency.

[FR Doc. E6-2813 Filed 2-27-06; 8:45 am]

BILLING CODE 3410-05-P